FEDERAL COMMUNICATIONS COMMISSION

Sunshine Act Meeting; Open Commission Meeting; Friday, July 19, 2013

July 12, 2013.

The Federal Communications Commission will hold an Open Meeting on the subjects listed below on Friday, July 19, 2013. The meeting is scheduled to commence at 10:30 a.m. in Room TW-C305, at 445 12th Street SW., Washington, DC

Item No. | Bureau | Subject
1 | MEDIA | TITLE: Annual Assessment of the Status of Competition in the Market for the Delivery of Video Programming (MB Docket No. 12-203). SUMMARY: The Commission will consider a Fifteenth Report on the status of competition in the market for the delivery of video programming.
2 |  | TITLE: Presentation on LEAD Recommendations and Digital Learning. SUMMARY: Margaret Spellings, former Secretary of Education, and Jim Steyer, Founder and CEO of Common Sense Media, will present on the bipartisan Leading Education by Advancing Digital (LEAD) Commission's Five Point Blueprint recommending a national initiative to expand digital learning in K-12 education. Dr. John Word, principal of Kenmore Middle School in Arlington, VA, will present on how students and teachers at Kenmore are using digital technologies and broadband connectivity to expand learning opportunities.
3 | WIRELINE COMPETITION | TITLE: Modernizing the E-rate Program for Schools and Libraries. SUMMARY: The Commission will consider a Notice of Proposed Rulemaking to modernize the Schools and Libraries Universal Service Support mechanism (the E-rate program) to support high-speed broadband for digital learning technologies and ensure all students, teachers, and library patrons have the tools they need to succeed in the 21st century.
4 | CONSUMER & GOVERNMENTAL AFFAIRS | TITLE: Speech-to-Speech and Internet Protocol (IP) Speech-to-Speech Telecommunications Relay Services (CG Docket No. 08-15); Telecommunications Relay Services and Speech-to-Speech Services for Individuals with Hearing and Speech Disabilities (CG Docket No. 03-123). SUMMARY: The Commission will consider a Report and Order addressing mandatory minimum standards applicable to the Speech-to-Speech Relay program and a Further Notice of Proposed Rulemaking seeking input on ways to improve the efficiency and effectiveness of this program.
5 | CONSUMER & GOVERNMENTAL AFFAIRS & WIRELESS TELE-COMMUNICATIONS & MEDIA | TITLE: Update on the Implementation of the Twenty-First Century Communications and Video Accessibility Act (CVAA). SUMMARY: In recognition of the 23rd anniversary of the Americans with Disabilities Act, the Consumer & Governmental Affairs Bureau, together with the Wireless Telecommunications Bureau and the Media Bureau, will provide a report on the Commission's implementation of the CVAA since its passage in 2010.

The meeting site is fully accessible to people using wheelchairs or other mobility aids. Sign language interpreters, open captioning, and assistive listening devices will be provided on site. Other reasonable accommodations for people with disabilities are available upon request. In your request, include a description of the accommodation you will need and a way we can contact you if we need more information. Last minute requests will be accepted, but may be impossible to fill. Send an email to: fcc504@fcc.gov or call the Consumer & Governmental Affairs Bureau at 202-418-0530 (voice), 202-418-0432 (tty).

Additional information concerning this meeting may be obtained from Audrey Spivack or David Fiske, Office of Media Relations, (202) 418-0500; TTY 1-888-835-5322. Audio/Video coverage of the meeting will be broadcast live with open captioning over the Internet from the FCC Live Web page at www.fcc.gov/live.

For a fee this meeting can be viewed live over George Mason University's Capitol Connection. The Capitol Connection also will carry the meeting live via the Internet. To purchase these services call (703) 993-3100 or go to www.capitolconnection.gmu.edu.

Copies of materials adopted at this meeting can be purchased from the FCC's duplicating contractor, Best Copy and Printing, Inc. (202) 488-5300; Fax (202) 488-5563; TTY (202) 488-5562. These copies are available in paper format and alternative media, including large print/type; digital disk; and audio and video tape. Best Copy and Printing, Inc. may be reached by email at FCC@BCPIWEB.com.

Federal Communications Commission.
Marlene H. Dortch,
Secretary, Office of the Secretary, Office of Managing Director.

[FR Doc. 2013-17626 Filed 7-18-13; 11:15 am]

BILLING CODE 6712-01-P